DEPARTMENT OF HEALTH AND HUMAN SERVICES

Office of the Secretary

Request for comments on the draft Department Strategic Plan for FY 2022-2026

AGENCY: Office of the Secretary, Office of the Assistant Secretary for Planning and Evaluation, Health and Human Services.

ACTION: Request for comments on the draft HHS Strategic Plan FY 2022-2026.

SUMMARY: The Department of Health and Human Services (HHS) is seeking public comment on its draft Strategic Plan for Fiscal Years 2022-2026 through the Department of Health and Human Services website at www.hhs.gov/about/draft-strategic-plan/index.html.

DATES: Submit comments on or before November 7, 2021.

ADDRESSES: Written comments can be provided by email, Fax, or U.S. mail.

Email: HHSPlan@hhs.gov.

Fax: (202) 690-5882.

Mail: U.S. Department of Health and Human Services, Office of the Assistant Secretary for Planning and Evaluation, Division of Strategic Planning, Attn: Strategic Plan Comments, 200 Independence Avenue SW, Room 434E, Washington, DC 20201.

FOR FURTHER INFORMATION CONTACT: Margo Bailey, (202) 730-8504.

SUPPLEMENTARY INFORMATION: The draft Department of Health and Human Services Strategic Plan FY 2022-2026 is provided as part of the strategic planning process under the Government Performance and Results Modernization Act of 2010 (GPRA-MA)(Pub. L. 111-352) to ensure that Agency stakeholders are given an opportunity to comment on this plan.

This document articulates how the Department will achieve its mission through five strategic goals. These five strategic goals are (1) Protect and Strengthen Equitable Access to High Quality and Affordable Health Care, (2) Safeguard and Improve National and Global Health Conditions and Outcomes, (3) Strengthen Social Well-being, Equity, and Economic Resilience, (4) Restore Trust and Accelerate Advancements in Science and Research for All, and (5) Advance Strategic Management to Build Trust, Transparency, and Accountability. Each goal is supported by objectives and strategies.

The strategic planning consultation process is an opportunity for the Department to refine and strengthen the HHS Strategic Plan FY 2022-2026. We look forward to receiving your comments by November 7, 2021. The text of the draft HHS Strategic Plan FY 2022-2026 is available through the Department of Health and Human Services website at www.hhs.gov/about/draft-strategic-plan/index.html. For comparison purposes, the current HHS Strategic Plan FY 2018-2022 can be viewed at https://www.hhs.gov/about/strategic-plan/index.html.

For those who may not have internet access, a hard copy can be requested from the contact point, Margo Bailey, (202) 730-8504.

Dated: September 29, 2021.
Rebecca Haffajee,
Acting Assistant Secretary for Planning and Evaluation (ASPE), Principal Deputy, ASPE.

[FR Doc. 2021-21939 Filed 10-5-21; 8:45 am]

BILLING CODE 4150-05-P